DEPARTMENT OF ENERGY

Federal Energy Regulatory Commission

[Docket No. RP03-461-000]

Alliance Pipeline L.P.; Notice of Compliance Filing

May 8, 2003.

Take notice that on April 30, 2003, Alliance Pipeline L.P. (Alliance) tendered for filing a cost and revenue study. Alliance states that the purpose of the filing is to comply with Ordering Paragraph (F) of the certificate order issued by the Federal Energy Regulatory Commission (Commission) on September 17, 1998, in Docket No. CP97-168-000, et al. Ordering Paragraph (F) required Alliance to make a filing within three years of the pipeline's in-service date, either justifying its existing recourse rates or proposing alternative rates to be effective no later than three years after the in-service date.

Alliance's in-service date was December 1, 2000. Alliance states that its filing justifies the continued use of the existing recourse rates.

Alliance states that copies of its filing have been mailed to all customers, state commissions, and other interested parties.

Any person desiring to be heard or to protest said filing should file a motion to intervene or a protest with the Federal Energy Regulatory Commission, 888 First Street, NE., Washington, DC 20426, in accordance with § 385.214 or 385.211 of the Commission's Rules and Regulations. All such motions or protests must be filed on or before the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 14, 2003.

Magalie R. Salas,
Secretary.

[FR Doc. 03-12020 Filed 5-13-03; 8:45 am]

BILLING CODE 6717-01-P